DEPARTMENT OF STATE

[Public Notice 7799]

Determination With Respect to Foreign Governments' Efforts Regarding Trafficking in Persons—Burma

Pursuant to section 110 of Trafficking Victims Protection Act of 2000 (Division A, Pub. L. 106-386), as amended (the “Act”), and the Presidential memorandum of delegation signed on February 3, 2012, I hereby determine, consistent with sections 110(d)(4) and 110(f) of the Act, that provision to the Government of Burma of all programs, projects, or activities of assistance described in sections 110(d)(1)(B) of the Act would promote the purposes of the Act or is otherwise in the national interest of the United States.

This determination shall be published in the Federal Register, and copies shall be transmitted to the appropriate committees in Congress.

Dated: February 6, 2012.
Hillary Rodham Clinton,
Secretary of State.

[FR Doc. 2012-3695 Filed 2-15-12; 8:45 am]

BILLING CODE 4710-02-P